DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 5, 2006.

Interested persons are invited to submit written comments regarding the subject matter of the investigations to the Director, Division of Trade Adjustment Assistance, at the address shown below, not later than June 5, 2006.

The petitions filed in this case are available for inspection at the Office of the Director, Division of Trade Adjustment Assistance, Employment and Training Administration, U.S. Department of Labor, Room C-5311, 200 Constitution Avenue, NW., Washington, DC 20210.

Signed at Washington, DC this 17th day of May 2006.
Erica R. Cantor,
Director, Division of Trade Adjustment Assistance.

Appendix
[Appendix 55 TAA petitions instituted between 5/8/06 and 5/12/06]
TA-W | Subject firm (petitioners) | Location | Date of institution | Date of petition
59336 | Carolina Mills Inc (Comp) | Statesville, NC | 05/08/06 | 05/04/06
59337 | Carolina Mills Inc (Comp) | Maiden, NC | 05/08/06 | 05/04/06
59338 | International Paper Co. (Union) | Cantonment, FL | 05/08/06 | 05/05/06
59339 | Northern Technologies (State) | Pocahontas, AR | 05/08/06 | 05/04/06
59340 | Billings Transportation Co. (Comp) | Lexington, NC | 05/08/06 | 05/03/06
59341 | STERIS Corporation (UAW) | Erie, PA | 05/08/06 | 05/04/06
59342 | Sheridan Industries Inc. (State) | Albion, MI | 05/08/06 | 05/04/06
59343 | NABCO Inc (Comp) | Reed City, MI | 05/08/06 | 05/05/06
59344 | Factory Screen Works (Comp) | King, NC | 05/08/06 | 05/05/06
59345 | Theramatrix Physical Therapy and Services Inc (Wkrs) | Hapeville, GA | 05/08/06 | 05/05/06
59346 | Sonoco Products Co. (Comp) | Charlotte, NC | 05/08/06 | 05/05/06
59347 | Health Fitness Corp. (Wrks) | Minneapolis, MN | 05/08/06 | 04/27/06
59348 | Ardisam, Inc. (Comp) | Cumberland, WI | 05/08/06 | 05/04/06
59349 | P.H. Glatfelter Co. (Comp) | Neenah, WI | 05/08/06 | 05/05/06
59350 | Central Minnesota Tool and Stamping (State) | Little Falls, MN | 05/08/06 | 05/05/06
59351 | Southern Oregon Lumber (Wkrs) | Central Point, OR | 05/08/06 | 05/04/06
59352 | Town of Calhoun Falls (Comp) | Calhoun Falls, SC | 05/08/06 | 04/14/06
59353 | Auburn Technology Inc (Comp) | Auburn, NY | 05/08/06 | 05/05/06
59354 | Atlas Engineering (Comp) | Kent, OH | 05/08/06 | 05/02/06
59355 | Quebecor World Inc. (Union) | Brookfield, WI | 05/09/06 | 05/08/06
59356 | Masonite Corporation (Comp) | Corning, CA | 05/09/06 | 05/08/06
59357 | Dole Fruit Co. (Comp) | Gulfport, MS | 05/09/06 | 05/08/06
59358 | Cenveo-Waterbury (Wkrs) | Waterbury, CT | 05/09/06 | 04/26/06
59359 | Science Applications International Corp. (SAIC) (State) | Piscataway, NJ | 05/09/06 | 05/08/06
59360 | Smurfit Stone Company (Wkrs) | Mansfield, MA | 05/09/06 | 05/08/06
59361 | Columbian Chemicals Company (Comp) | Proctor, WV | 05/09/06 | 05/08/06
59362 | Mount Vernon Mills (Comp) | Trion, GA | 05/09/06 | 05/09/06
59363 | Moore Wallace (Comp) | Iowa City, IA | 05/10/06 | 04/28/06
59364 | Galileo International Cendant Co. (State) | Centennial, CO | 05/10/06 | 05/04/06
59365 | Napco Window Systems (Union) | Sarver, PA | 05/10/06 | 05/09/06
59366 | Yorktowne Cabinetry (Union) | Mifflinburg, PA | 05/10/06 | 05/09/06
59367 | United Technologies Corp. (Comp) | Carrollton, TX | 05/10/06 | 05/09/06
59368 | Formica Corporation (Comp) | Rocklin, CA | 05/10/06 | 05/09/06
59369 | 3M Precision Optics (Wkrs) | Cincinnati, OH | 05/10/06 | 05/06/06
59370 | Universal Leaf of North America (Wkrs) | Danville, VA | 05/10/06 | 04/24/06
59371 | Sony Electronics (Comp) | San Diego, CA | 05/10/06 | 04/21/06
59372 | Sun Microsystems, Inc. (State) | Santa Clara, CA | 05/10/06 | 05/02/06
59373 | North Gate Litho Print (State) | Portland, OR | 05/11/06 | 05/10/06
59374 | Astec America (Wkrs) | Carlsbad, CA | 05/11/06 | 05/10/06
59375 | Eagle Picher (State) | Hillsdale, MI | 05/12/06 | 05/11/06
59376 | Escalade Sports Inc. (IUECWA) | Evansville, IN | 05/12/06 | 05/09/06
59377 | St. John (State) | Irvine, CA | 05/12/06 | 05/10/63
59378 | Crossroads Industries Inc. (Comp) | Gaylord, MI | 05/12/06 | 05/10/06
59379 | E.K. Wood Products, Inc. (State) | Barbourville, KY | 05/12/06 | 05/10/06
59380 | Siemens VDO (Union) | Elkhart, IN | 05/12/06 | 05/10/06
59381 | Shieldalloy Metallurgical Corp. (Wkrs) | Newfield, NJ | 05/12/06 | 05/11/06
59382 | C.M. Holtzinger Fruit Co. Inc. (Wkrs) | Prosser, WA | 05/12/06 | 05/08/06
59383 | Herrin Maytag Laundry Products (State) | Herrin, IL | 05/12/06 | 05/11/06
59384 | Wistron Infocomm (Wkrs) | Grapevine, TX | 05/12/06 | 05/09/06
59385 | G.E. Lighting (Wkrs) | Willoughby, OH | 05/12/06 | 05/03/06
59386 | Woodmaster Inc. (Comp) | St. Anthony, IN | 05/12/06 | 04/27/06
59387 | SKF USA Inc. (Comp) | Graniteville, SC | 05/12/06 | 05/03/06
59388 | Rose Art Industries Inc. (Comp) | Livingston, NJ | 05/12/06 | 05/01/06
59389 | Hirel Systems (Comp) | Kent, WA | 05/12/06 | 05/04/06
59390 | Eaton (Wkrs) | Phelps, NY | 05/12/06 | 05/03/06

[FR Doc. E6-8061 Filed 5-24-06; 8:45 am]

BILLING CODE 4510-30-P